DEPARTMENT OF COMMERCE

Patent and Trademark Office

Public User ID Badging

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before March 28, 2006.

ADDRESSES: You may submit comments by any of the following methods:

E-mail: Susan.Brown@uspto.gov. Include “0651-0041 comment” in the subject line of the message.

Fax: 571-273-0112, marked to the attention of Susan Brown.

Mail: Susan K. Brown, Records Officer, Office of the Chief Information Officer, Architecture, Engineering and Technical Services, Data Architecture and Services Division, U.S. Patent and Trademark Office, P.O. Box 1450, Alexandria, VA 22313-1450.

Federal e-Rulemaking Portal: http://www.regulations.gov.

FOR FURTHER INFORMATION CONTACT: Requests for additional information regarding online access cards or user training should be directed to Diane Lewis, Manager, Public Search Facilities, U.S. Patent and Trademark Office, P.O. Box 1450, Alexandria, VA 22313-1450; by telephone at 571-272-8714; or by electronic mail at Diane.Lewis@uspto.gov.

Requests for additional information regarding security identification badges should be directed to J.R. Garland, Director, Security Office, U.S. Patent and Trademark Office, P.O. Box 1450, Alexandria, VA 22313-1450; by telephone at 571-272-6247; or by electronic mail at Calib.Garland@uspto.gov.

SUPPLEMENTARY INFORMATION:

I. Abstract

The United States Patent and Trademark Office (USPTO) is required by 35 U.S.C. 41(i)(1) to maintain a Public Search Facility to provide patent and trademark collections for searching and retrieval of information. The Public Search Facilities are maintained for public use with paper and electronic search files and trained staff to assist searchers. The USPTO also offers training courses to assist the public with using the advanced electronic search systems available at the facilities.

In order to manage the patent and trademark collections that are available to the public, the USPTO issues online access cards to customers who wish to use the electronic search systems at the Public Search Facility. Customers may obtain an online access card by completing the application at the Public Search Facility reference desk and providing proper identification. The plastic online access cards include a bar-coded user number and an expiration date. Users may renew their cards by validating and updating the required information and may obtain a replacement for a lost card by providing proper identification.

Under the authority provided in 41 CFR Part 102-81, the USPTO issues security identification badges to members of the public who wish to use the facilities at the USPTO. Public users may apply for a security badge in person at the USPTO Office of Security by providing the necessary information and presenting a valid form of identification with photograph. The security badges include a color photograph of the user and must be worn at all times while at the USPTO facilities.

The USPTO is updating this information collection to include the renewal of security identification badges for public users. The security badges must be renewed annually and there is no fee. The USPTO is also deleting the previous $15 fee for obtaining a replacement online access card from this collection because that fee has been eliminated. Finally, the USPTO is revising the estimated annual responses for this collection to reflect current submissions related to online access cards, training courses, and security badges for users of the Public Search Facilities.

II. Method of Collection

The applications for online access cards and security identification badges are completed on site and handed to a USPTO staff member for issuance. User training application forms may be mailed, faxed, or hand delivered to the USPTO.

III. Data

OMB Number: 0651-0041.

Form Number(s): PTO-2030, PTO-2224.

Type of Review: Revision of a currently approved collection.

Affected Public: Individuals or households; businesses or other for-profits; not-for-profit institutions; farms; the Federal Government; and state, local or tribal governments.

Estimated Number of Respondents: 11,369 responses per year.

Estimated Time Per Response: The USPTO estimates that it will take the public approximately five to 10 minutes (0.08 to 0.17 hours) to complete the information in this collection, including gathering the necessary information, preparing the appropriate form, and submitting the completed request.

Estimated Total Annual Respondent Burden Hours: 1,097 hours per year.

Estimated Total Annual Respondent Cost Burden: $163,453 per year. The USPTO estimates that approximately ⅓ of the users responding to this collection are attorneys and ⅔ are paraprofessionals. Using ⅓ of the professional rate of $286 per hour for associate attorneys in private firms and ⅔ of the paraprofessional rate of $81 per hour, the estimated rate for respondents to this collection is approximately $149 per hour.

Item | Estimated time for response (minutes) | Estimated annual responses | Estimated annual burden hours
Application for Public User ID (Online Access Card) (PTO-2030) | 5 | 2,951 | 236
Issue Online Access Card | 10 | 1,975 | 336
Renew Online Access Card | 5 | 1,975 | 158
Replace Online Access Card | 5 | 70 | 6
User Training Application Forms | 10 | 98 | 17
Security Identification Badges for Public Users (PTO-2224) | 5 | 1,000 | 80
Renew Security Identification Badges for Public Users | 5 | 3,200 | 256
Replace Security Identification Badge | 5 | 100 | 8
Total |  | 11,369 | 1,097

Estimated Total Annual Non-hour Respondent Cost Burden: $4,152. There are no capital start-up, maintenance, or recordkeeping costs associated with this information collection. However, this collection does have annual (non-hour) costs in the form of filing fees and postage costs.

There are no application or renewal fees for online access cards or security identification badges. However, there is a $15 fee for issuing a replacement security identification badge. The previous $15 fee for obtaining a replacement online access card has been eliminated. The USPTO estimates that it will reissue approximately 100 security badges annually that have been lost or need to be replaced, for a total of $1,500 per year in replacement fees.

There are registration fees for the user training courses offered at the Public Search Facilities. The regular cost for a public course is $25 per class, and individual instruction may also be arranged for $120 per class. The USPTO estimates that it will receive 96 registrations for public courses and 2 registrations for individual instruction per year, for a total of $2,640 in training registration fees. Therefore, this collection has a total of $4,140 per year in filing fees in the form of security badge replacement fees and training registration fees.

Item | Estimated annual responses | Fee amount | Estimated annual fee costs
Application for Public User ID (Online Access Card) (PTO-2030) | 2,951 | $0.00 | $0.00
Issue Online Access Card | 1,975 | 0.00 | 0.00
Renew Online Access Card | 1,975 | 0.00 | 0.00
Replace Online Access Card | 70 | 0.00 | 0.00
User Training Application Forms (Public Course) | 96 | 25.00 | 2,400.00
User Training Application Forms (Individual Course) | 2 | 120.00 | 240.00
Security Identification Badges for Public Users (PTO-2224) | 1,000 | 0.00 | 0.00
Renew Security Identification Badges for Public Users | 3,200 | 0.00 | 0.00
Replace Security Identification Badge | 100 | 15.00 | 1,500.00
Total | 11,369 |  | 4,140.00

Users may incur postage costs when submitting a user training application form to the USPTO by mail. The USPTO expects that approximately 30 of the estimated 98 training forms received per year will be submitted by mail. The USPTO estimates that the average first-class postage cost for a mailed training form will be 39 cents, for a total postage cost of approximately $12 per year for this collection.

The total annual (non-hour) respondent cost burden for this collection in the form of filing fees and postage costs is estimated to be $4,152 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: January 23, 2006.
Susan K. Brown,
Records Officer, USPTO, Office of the Chief Information Officer, Architecture, Engineering and Technical Services, Data Architecture and Services Division.

[FR Doc. E6-1025 Filed 1-26-06; 8:45 am]

BILLING CODE 3510-16-P